DEPARTMENT OF THE INTERIOR

National Park Service

Notice of Inventory Completion for Native American Human Remains and Associated Funerary Objects in the Possession of the Museum of Natural History and Planetarium, Roger Williams Park, Providence, RI; Correction

AGENCY: National Park Service, Interior.

ACTION: Notice.

Notice is hereby given in accordance with provisions of the Native American Graves Protection and Repatriation Act (NAGPRA), 43 CFR 10.9, of the completion of an inventory of human remains and associated funerary objects in the possession of the Museum of Natural History and Planetarium, Roger Williams Park, Providence, RI.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

This notice corrects information that was reported in a Notice of Inventory Completion published October 4, 2001 (Federal Register document 01-24936, pages 50672-50673), which was itself a correction of a Notice of Inventory Completion published May 3, 2001 (Federal Register document 01-11141, pages 22248-22250). In both notices, the name of a site where human remains and associated funerary objects were discovered was wrongly reported, as were dates of transfer in the collection history of objects from that site.

Paragraphs 16 and 17 of the October 4, 2001, notice reported human remains representing one individual and four associated funerary objects as coming from Jamestown, RI. The site name should be corrected to Burr’s Hill Burial Ground, Warren, RI, and the information should be reported along with the human remains in the preceding two paragraphs. In paragraphs 14 and 15, dates of transfer in the collection history of objects from Burr’s Hill Burial Ground were wrongly reported.

To correct this information, paragraphs 16 and 17 should be deleted, and the human remains representing one individual and four associated funerary objects should be included in paragraphs 14 and 15 to read:

(Paragraph 14) In 1894, human remains representing four individuals were recovered from the Burr’s Hill Burial Ground, Warren, RI, by A.T. Vaughan, who donated these remains to the Museum of Natural History and Planetarium in 1900. No known individuals were identified. Museum documentation indicates that “curios” were found with these human remains, and were transferred in 1916 to the Heye Foundation (now the National Museum of the American Indian) as part of an exchange. Museum documentation also indicates that a fragment or fragments of one of the individuals were transferred in 1918 to the Heye Foundation (now the National Museum of the American Indian) as part of an exchange. The four associated funerary objects are fragments of bark, hair, iron, and cloth that are adhered to the human remains.

(Paragraph 15) Based on skeletal morphology and extensive copper staining, these individuals have been identified as Native American from the 17th century. Based on physical evidence, consultation with tribal representatives, and geographic/provenience information, these individuals have been determined to be culturally affiliated with the Narragansett Indian Tribe of Rhode Island and Wampanoag Tribe of Gay Head (Aquinnah).

Based on the above-mentioned information, officials of the Museum of Natural History and Planetarium have determined that, pursuant to 43 CFR 10.2 (d)(1), the human remains listed above represent the physical remains of four individuals of Native American ancestry. Officials of the Museum of Natural History and Planetarium also have determined that, pursuant to 43 CFR 10.2 (d)(2), the four objects listed above are reasonably believed to have been placed with or near individual human remains at the time of death or later as part of the death rite or ceremony. Lastly, officials of the Museum of Natural History and Planetarium have determined that, pursuant to 43 CFR 10.2 (e), there is a relationship of shared group identity that can be reasonably traced between these Native American human remains and associated funerary objects and the Narragansett Indian Tribe of Rhode Island and Wampanoag Tribe of Gay Head (Aquinnah).

This notice has been sent to officials of the Narragansett Indian Tribe of Rhode Island and the Wampanoag Tribe of Gay Head (Aquinnah). Representatives of any other Indian tribe that believes itself to be culturally affiliated with these human remains and associated funerary objects should contact Marilyn Massaro, Curator of Collections, Museum of Natural History and Planetarium, Roger Williams Park, Providence, RI 02905, telephone (401) 785-9457, before October 15, 2002. Repatriation of the human remains and associated funerary objects to the Narragansett Indian Tribe of Rhode Island and Wampanoag Tribe of Gay Head (Aquinnah) may begin after that date if no additional claimants come forward.

Dated: July 3, 2002.
Robert Stearns,
Manager, National NAGPRA Program.

[FR Doc. 02-23130 Filed 9-11-02; 8:45 am]

BILLING CODE 4310-70-S